DEPARTMENT OF ENERGY

Federal Energy Regulatory Commission

Combined Notice of Filings

Take notice that the Commission has received the following Natural Gas Pipeline Rate and Refund Report filings:

Filings Instituting Proceedings

Docket Numbers: RP16-1168-000.

Applicants: Midcontinent Express Pipeline LLC.

Description: § 4(d) Rate Filing: Buy Out Language Filing to be effective 9/10/2016.

Filed Date: 8/11/16.

Accession Number: 20160811-5062.

Comments Due: 5 p.m. ET 8/23/16.

Docket Numbers: RP16-1169-000.

Applicants: Texas Eastern Transmission, LP.

Description: § 4(d) Rate Filing: Negotiated Rates—8-12-2016 revision for Sequent Contract 911362 to be effective 8/12/2016.

Filed Date: 8/11/16.

Accession Number: 20160811-5156.

Comments Due: 5 p.m. ET 8/23/16.

Docket Numbers: RP16-1170-000.

Applicants: Northern Natural Gas Company.

Description: § 4(d) Rate Filing: 20160811 Carlton Flow Obligations to be effective 11/1/2016.

Filed Date: 8/11/16.

Accession Number: 20160811-5190.

Comments Due: 5 p.m. ET 8/23/16.

Docket Numbers: RP16-1171-000.

Applicants: Midcontinent Express Pipeline LLC.

Description: § 4(d) Rate Filing: Removal of Expiring Devon Agreement to be effective 9/1/2016.

Filed Date: 8/12/16.

Accession Number: 20160812-5048.

Comments Due: 5 p.m. ET 8/24/16.

Docket Numbers: RP16-1172-000.

Applicants: ANR Storage Company.

Description: Compliance filing ANRSC Compliance to Docket No. CP16-469 (Abandonment of Service) to be effective 7/1/2016.

Filed Date: 8/12/16.

Accession Number: 20160812-5057.

Comments Due: 5 p.m. ET 8/24/16.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2016.
Kimberly D. Bose,
Secretary.

[FR Doc. 2016-20286 Filed 8-23-16; 8:45 am]

BILLING CODE 6717-01-P